DEPARTMENT OF EDUCATION

34 CFR Chapter VI

[ED-2025-OPE-0151]

Intent To Establish Negotiated Rulemaking Committees; Correction

AGENCY: Office of Postsecondary Education, Department of Education.

ACTION: Proposed rule; correction.

SUMMARY: On July 25, 2025 the U.S. Department of Education published an intent to establish negotiated rulemaking committees in the Federal Register Page 35261, Column 1, 2, and 3; Page 35262, Column 1, 2, and 3; Page 35263, Column 1, 2, and 3; Page 35264, Column 1, 2, and 3 seeking public comment for the Public Hearing; Negotiated Rulemaking Committees; Department's intention to establish two negotiated rulemaking committees to prepare regulations for the Federal student financial assistance programs authorized under Title IV of the Higher Education Act (HEA) of 1965, as amended (Title IV, HEA programs). ED is requesting a correction to the Docket ID Number ED-2025-0151. Docket ID should read as ED-2025-OPE-0151.

The Acting Assistant Secretary, Office of Postsecondary Education, hereby issues a correction notice as required by the Paperwork Reduction Act.

Signing Authority: This document of the U.S. Department of Education was signed on July 25, 2025, by Christopher J. McCaghren, ED.D, Acting Assistant Secretary, Office of Postsecondary Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Tracey St. Pierre,
Director, Office of the Executive Secretariat, Office of the Secretary, U.S. Department of Education.

[FR Doc. 2025-14333 Filed 7-28-25; 8:45 am]

BILLING CODE 4000-01-P